DEPARTMENT OF TRANSPORTATION

Federal Highway Administration

Notice of Final Federal Agency Actions on Proposed Highway in California

AGENCY: Federal Highway Administration (FHWA), Department of Transportation (DOT).

ACTION: Notice of limitation on claims for judicial review of actions by the California Department of Transportation (Caltrans).

SUMMARY: The FHWA, on behalf of Caltrans, is issuing this notice to announce actions taken by Caltrans that are final within the meaning of 23 U.S.C. 139(l)(1). The actions relate to a proposed highway project, the State Route 29 (SR 29) Ritchie Creek Bridge Replacement Project for Fish Passage Improvement at post mile 33.13 in Napa County, State of California. Those actions grant licenses, permits, and approvals for the project.

DATES: By this notice, FHWA, on behalf of Caltrans, is advising the public of final agency actions subject to 23 U.S.C. 139(l)(1). A claim seeking judicial review of the Federal agency actions on the highway project will be barred unless the claim is filed on or before December 27, 2021. If the Federal law that authorizes judicial review of a claim provides a time period of less than 150 days for filing such claim, then that shorter time period still applies.

FOR FURTHER INFORMATION CONTACT: For Caltrans: Maxwell Lammert, Environmental Branch Chief, 111 Grand Avenue MS 8B, Oakland, CA 94612, 510-506-9862 (Voice) and email Maxwell.Lammert@dot.ca.gov. For FHWA, contact David Tedrick at (916) 498-5024 or email David.tedrick@dot.gov.

SUPPLEMENTARY INFORMATION: Effective July 1, 2007, FHWA assigned, and Caltrans assumed, environmental responsibilities for this project pursuant to 23 U.S.C. 327. Notice is hereby given that the Caltrans has taken final agency actions subject to 23 U.S.C. 139(l)(1) by issuing licenses, permits, and approvals for the following highway project in the State of California: Caltrans proposes to replace the existing Ritchie Creek Bridge (Bridge No. 21-0057) with a new bridge at post mile (PM) 33.13, located on State Route 29 (SR 29) southeast of the city of Calistoga and to the north of the city of St. Helena in Napa County. The existing bridge on SR 29 is classified as a depth and jump barrier to adult and juvenile salmonids. The purpose of the proposed project is to address fish passage barriers at the SR 29 crossing over Ritchie Creek to obtain Total Maximum Daily Load compliance unit credits from State Water Resources Control Board under the Caltrans Statewide National Pollutant Discharge Elimination System permit.

The actions by the Federal agencies, and the laws under which such actions were taken, are described in the Environmental Assessment (EA) and Finding of No Significant Impact (FONSI) for the project, approved on June 25, 2021. The EA, FONSI, and other project records are available by contacting Caltrans at the addresses provided above. The Caltrans EA and FONSI can be viewed and downloaded from the project website at https://dot.ca.gov/caltrans-near-me/district-4/d4-popular-links/d4-environmental-docs, or viewed at the St. Helena Public Library, 1492 Library Ln No. 1143, St. Helena, CA.

This notice applies to all Federal agency decisions as of the issuance date of this notice and all laws under which such actions were taken, including but not limited to:

1. National Environmental Policy Act

2. Federal Clean Air Act

3. Federal-Aid Highway Act

4. Clean Water Act

5. Fixing American's Surface Transportation Act (Fast Act)

6. Archeological and Historic Preservation Act

7. Section 106 of the National Historic Preservation Act

8. Federal Endangered Species Act

9. Migratory Bird and Treaty Act

10. Fish and Wildlife Coordination Act

11. Section 4(f) of the Department of Transportation Act

12. Civil Rights Act, Title VI

13. Farmland Protection Policy Act

14. Uniform Relocation Assistance and Real Property Acquisition Policies Act

15. Rehabilitation Act

16. Comprehensive Environmental Response, Compensation, and Liability Act (CERCLA)

17. Resource Conservation and Recovery Act (RCRA)

18. Safe Drinking Water Act

19. Occupational Safety and Health Act

20. Atomic Energy Act

21. Toxic Substances Control Act

22. Federal Insecticide, Fungicide and Rodenticide Act

23. E.O. 11988 Floodplain Management

24. 29. E.O. 12898, Federal Actions to Address Environmental Justice in Minority Populations and Low Income Populations

25. 30. E.O. 12088, Federal Compliance with Pollution Control Standards

26. 31. Park Preservation Act

27. 32. American with Disabilities Act

28. 33. Historic Sites Act

29. 34. Community Environmental Response Facilitation Act of 1992

30. 35. E.O. 13112, Invasive Species

(Catalog of Federal Domestic Assistance Program Number 20.205, Highway Planning and Construction. The regulations implementing Executive Order 12372 regarding intergovernmental consultation on Federal programs and activities apply to this program.)

Authority:23 U.S.C. 139(l)(1).

Issued on: July 26, 2021.
Rodney Whitfield,
Director, Financial Services, Federal Highway Administration, California Division.

[FR Doc. 2021-16236 Filed 7-29-21; 8:45 am]

BILLING CODE 4910-RY-P